DEPARTMENT OF HEALTH AND HUMAN SERVICES

Health Resources and Services Administration

Advisory Committee on Training in Primary Care Medicine and Dentistry; Notice of Meeting

In accordance with section 10 (a) (2) of the Federal Advisory Committee Act (Public Law 92-463), announcement is made of the following National Advisory body scheduled to meet during the month of August 2002.

Name: Advisory Committee on Training in Primary Care Medicine and Dentistry (ACTPCMD).

Date and Time: August 19, 2002; 8:30 a.m.-4:45 p.m.

Place: The Holiday Inn, 8120 Wisconsin Avenue, Bethesda, Maryland 20814.

The meeting is open to the public.

Purpose: The Advisory Committee on Training in Primary Care Medicine and Dentistry (ACTPCMD) will discuss and consider criteria for performance measurement and outcome assessment of primary care medicine and dentistry grant programs that are funded through Title VII, section 747 of the Public Health Service Act, as amended. The Committee will review current performance measurement and outcome assessment methods, discuss potential alternative methods, and consider recommendations of potential performance measurement and outcome assessment methods that might be employed in the future.

Agenda: The meeting on Monday, August 19 will begin with welcoming and opening comments from the Chair and Executive Secretary. A plenary session will follow in which Division of Medicine and Dentistry staff will review criteria currently used to measure performance and assess the outcome of primary care medicine and dentistry grant programs funded through Title VII, section 747 of the Public Health Service Act, as amended. Following this presentation, Committee members will discuss the criteria currently used, consider potential alternative criteria for performance measurement and outcome assessment of the aforementioned grant programs, and formulate recommendations for alternative criteria.

Anyone interested in obtaining a roster of members or other relevant information should write or contact Stan Bastacky, D.M.D., M.H.S.A., Deputy Executive Secretary, Advisory Committee on Training in Primary Care Medicine and Dentistry, Parklawn Building, Room 9A-21, 5600 Fishers Lane, Rockville, Maryland 20857, Telephone (301) 443-6326. The Web address for information on the Advisory Committee is http://www.bhpr.hrsa.gov/dm/actpcmd.htm.

Dated: July 2, 2002.
Jane M. Harrison,
Director, Division of Policy Review and Coordination.

[FR Doc. 02-17071 Filed 7-5-02; 8:45 am]

BILLING CODE 4165-15-P